DEPARTMENT OF THE INTERIOR

National Park Service

[NPS-WASO-NAGPRA-NPS0029315; PPWOCRADN0-PCU00RP14.R50000]

Notice of Intent To Repatriate Cultural Items: Thomas Burke Memorial Washington State Museum, University of Washington, Seattle, WA

AGENCY: National Park Service, Interior.

ACTION: Notice.

SUMMARY: The Thomas Burke Memorial Washington State Museum (Burke Museum), in consultation with the appropriate Indian Tribes or Native Hawaiian organizations, has determined that the cultural item listed in this notice meets the definition of a sacred object. Lineal descendants or representatives of any Indian Tribe or Native Hawaiian organization not identified in this notice that wish to claim this cultural item should submit a written request to the Burke Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Burke Museum at the address in this notice by February 3, 2020.

ADDRESSES: Holly Barker, Curator for Oceanic and Asian Culture, Burke Museum, University of Washington, Box 353010, Seattle, WA 98195, telephone (206) 616-6891, email hmbarker@uw.edu.

SUPPLEMENTARY INFORMATION: Notice is here given in accordance with the Native American Graves Protection and Repatriation Act (NAGPRA), 25 U.S.C. 3005, of the intent to repatriate a cultural item under the control of the Thomas Burke Memorial Washington State Museum, University of Washington, Seattle, WA, that meets the definition of a sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1997, one cultural item was brought to the Burke Museum by Rocky Ka'iouliokahihikolo'Ehu Jensen. This cultural item is a Lama wood sculptural carving of Laka, the founder of the discipline of Hula.

Information provided during consultation between the Burke Museum and Nā Lei O Manu'akepa representatives confirmed that the Laka sculpture is a necessary component which holds a very important role in the sacred Kuahu Ceremony of traditional Hula practitioners. The sculpture is seen as a manifestation of the Hula patron, Laka, to which traditional Hula practitioners conduct ceremonies and rituals with offerings for inspiration, guidance and protection in their present day cultural work and practices.

Determinations Made by the Thomas Burke Memorial Washington State Museum

Officials of the Thomas Burke Memorial Washington State Museum have determined that:

• Pursuant to 25 U.S.C. 3001(3)(C), the one cultural item described above is a specific ceremonial object needed by traditional Native American religious leaders for the practice of traditional Native American Hawaiian religions by their present-day adherents.

• Pursuant to 25 U.S.C. 3001(2), there is a relationship of shared group identity that can be reasonably traced between the sacred object and Nā Lei O Manu'akepa, a Native Hawaiian organization.

Additional Requestors and Disposition

Lineal descendants or representatives of any Indian Tribe or Native Hawaiian organization not identified in this notice that wish to claim these cultural items should submit a written request with information in support of the claim to Holly Barker, Curator for Oceanic and Asian Culture, Burke Museum, University of Washington, Box 353010, Seattle, WA 98195, telephone (206) 616-6891, email hmbarker@uw.edu, by February 3, 2020. After that date, if no additional claimants have come forward, transfer of control of the sacred object to Nā Lei O Manu'akepa, a Native Hawaiian organization, may proceed.

The Thomas Burke Memorial Washington State Museum is responsible for notifying Nā Lei O Manu'akepa that this notice has been published.

Dated: November 14, 2019.
Melanie O'Brien,
Manager, National NAGPRA Program.

[FR Doc. 2019-28379 Filed 1-2-20; 8:45 am]

BILLING CODE 4312-52-P